DEPARTMENT OF AGRICULTURE

Natural Resources Conservation Service

North Fork Cowanesque River Watershed, Potter County, PA

AGENCY: Natural Resources Conservation Service, USDA.

ACTION: Notice of a Finding of No Significant Impact.

SUMMARY: Pursuant to Section 102(2)(C) of the National Environmental Policy Act of 1969; the Council on Environmental Quality Guidelines (40 CFR part 1500); and the Natural Resources Conservation Service (formerly the Soil Conservation Service) Guidelines (7 CFR part 650); the Natural Resources Conservation Service, U.S. Department of Agriculture, gives notice that an environmental impact statement is not being prepared for the North Fork Cowanesque River Watershed, Potter County, Pennsylvania.

FOR FURTHER INFORMATION CONTACT: Ms. Robin E. Heard, State Conservationist, USDA-Natural Resources Conservation Service, One Credit Union Place, Suite 340, Harrisburg, Pennsylvania 17110-2993; Phone: 717-237-2200; Fax: 717-237-2239.

SUPPLEMENTARY INFORMATION: The environmental assessment of this federally assisted action indicates that the project will not cause significant local, regional, or national impacts on the environment. As a result of these findings, Robin E. Heard, State Conservationist, has determined that the preparation and review of an environmental impact statement are not needed for this project.

The project purpose is to maintain the current level of flood damage reduction by rehabilitating the existing North Fork Dam. Dam rehabilitation will bring North Fork Dam into compliance with current dam design, performance and safety criteria and extend its service life by 100 years. The planned works of improvement include raising the top of dam about 8 feet, stabilizing the existing auxiliary spillway, lining the principal spillway outlet pool with riprap, refurbishing the existing principal spillway and installing a graded filter of drainfill along the toe of the dam.

The Notice of a Finding of No Significant Impact (FONSI) has been forwarded to the Environmental Protection Agency and other interested parties. A limited number of copies of the FONSI are available to fill single copy requests at the above address. Basic data developed during the environmental assessment are on file and may be reviewed by contacting Robin E. Heard.

No administrative action on implementation of the proposal will be taken until 30 days after the date of this publication in the Federal Register.

Dated: August 30, 2005.
Robin E. Heard,
State Conservationist.
(This activity is listed in the Catalog of Federal Domestic Assistance under No. 10.916—Watershed Rehabilitation Program—and is subject to the provisions of Executive Order 12372, which requires intergovernmental consultation with State and local officials.)

[FR Doc. 05-17966 Filed 9-9-05; 8:45 am]

BILLING CODE 3410-16-P